DEPARTMENT OF AGRICULTURE

Submission for OMB Review; Comment Request

May 9, 2003.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Economic Research Service

Title: Estimating Consumer Benefits of Improving Food Safety.

OMB Control Number: 0536-NEW.

Summary of Collection: The U.S. Department of Agriculture has the responsibility to ensure that meat and poultry products are safe for human consumption. The Economic Research Service (ERS) has the responsibility to conduct economic research on the economic benefits and costs of policies and program designed to reduce and prevent illnesses caused by microbial pathogens. ERS has estimated the cost of medical treatment and lost productivity and premature death from diseases caused by five microbial pathogens at $6.9 billion annually. These costs understate the true social costs of these illnesses since they do not measure the consumer's willingness to pay to prevent food borne disease. ERS will collect information using two surveys.

Need and Use of the Information: ERS will collect information to determine (1) the extent to which a willingness to pay approach would boost assessments of the economic value of reductions in foodborne illnesses, and (2) to identify factors that influence consumers' valuation of these reductions, including personal and household characteristics, and information the consumer receives about foodborne illness.

Description of Respondents: Individuals or households.

Number of Respondents: 2,900.

Frequency of Responses: Reporting; Other (once and 3 times).

Total Burden Hours: 1,950.

Animal & Plant Health Inspection Service

Title: National Poultry Improvement Plan (NPIP).

OMB Control Number: 0579-0007.

Summary of Collection: The National Poultry Improvement Plan (NPIP) is a voluntary Federal-State-industry mechanism for controlling certain poultry diseases and for improving poultry flocks and products through disease control techniques. The National Turkey Improvement Plan was combined with the NPIP in 1970 to create the NPIP, as it now exists. Emu, rhea, ostrich, and cassowary breeding flocks are also allowed participation in the plan. The effective implementation of the NPIP necessitates the use of several information collection activities, including sentinel bird identification, as well as the creation and submission of flock testing reports, sales reports, breeding flock participation summaries, hatchery participation summaries, salmonella investigation reports, salmonella serotyping requests, and small chick order printouts. Authority for this program is contained in the U.S. Department of Agriculture Organic Act of 1944, as amended (7 U.S.C. 429). The cooperative work is carried out through a Memorandum of Understanding with the participating States.

Need and Use of the Information: Information is collected from various types of poultry breeders and flock owners to determine the number of eggs hatched and sold as well as to report outbreaks of diseases. This information allows APHIS officials to track, control, and prevent many types of poultry diseases.

Description of Respondents: State, Local or Tribal Government; Federal Government; Farms.

Number of Respondents: 19,086.

Frequency of Responses: Recordkeeping; Reporting: On occasion.

Total Burden Hours: 37,899.

Animal & Plant Health Inspection Service

Title: Animal Welfare.

OMB Control Number: 0579-0036.

Summary of Collection: The Laboratory Animal Welfare Act (AWA) (Pub. L. 89-544) enacted August 24, 1966, required the U.S. Department of Agriculture, to regulate the humane care and handling of dog, cats, guinea pigs, hamster, rabbits, and nonhuman primates. The legislation was the result of extensive demand by organized animal welfare groups and private citizens requesting a Federal law covering the transportation, care, and handling of laboratory animals. The Animal and Plant Health Inspection Service (APHIS), Regulatory Enforcement and Animal Care (AC) has the responsibility to enforce the Animal Welfare Act (7 U.S.C. 2131-2156) and the provisions of 9 CFR, Subchapter A, which implements the Animal Welfare Act. The purpose of the AWA is to insure that animal use in research facilities or exhibition purposes are provided humane care and treatment. APHIS will collect information using several forms.

Need and Use of the Information: APHIS will collect health certificates, program of veterinary care, application for license and record of acquisition, disposition and transportation of animals. The information is used to ensure those dealers, exhibitors, research facilities, carriers, etc., are in compliance with the Animal Welfare Act and regulations and standards promulgated under this authority of the Act.

Description of Respondents: Business or other for-profit.

Number of Respondents: 7,288.

Frequency of Responses: Recordkeeping; Reporting: On occasion.

Total Burden Hours: 98,501.

Food Safety and Inspection Service

Title: Exportation, Transportation, and Importation of Meat and Poultry Products.

OMB Control Number: 0583-0094.

Summary of Collection: The Food Safety and Inspection Service. (FSIS) has been delegated the authority to exercise the functions of the Secretary as provided in the Federal Meat Inspection Act (FMIA) (21 U.S.C. 601 et seq.) and the Poultry Products Inspection Act (PPIA) (21 U.S.C. 451 et seq.). These statutes mandate that FSIS protect the public by ensuring that meat and poultry products are safe, wholesome, unadulterated, and properly labeled and packaged. FSIS requires that meat and poultry establishments exporting products to foreign countries complete an export certificate. Meat and poultry products not marked with the mark of inspection and shipped from one official establishment to another for further processing must be transported under FSIS seal to prevent such unmarked product from entering into commerce. To track product shipped under seal, FSIS requires shipping establishments to complete a form that identifies the type, amount, and weight of the product. Foreign countries exporting meat and poultry products to the U.S. must establish eligibility for importation of product into the U.S., and annually certify that their inspection systems are “equivalent to” the U.S. inspection system. Meat and poultry products intended for import into the U.S. must be accompanied by a health certificate, signed by an official of the foreign government, stating that the products have been produced by certified foreign establishments.

Need and Use of the Information: FSIS will collect information to identify the type, amount, weight, destination, and originating country of the meat and poultry. FSIS will use the information to verify that a meat or poultry product intended for import has been prepared in a plant certified to prepare product for export to the U.S. FSIS will use the information from the forms in its annual Report to Congress.

Description of Respondents: Business or other for-profit.

Number of Respondents: 5,533.

Frequency of Responses: Recordkeeping; Reporting: On occasion.

Total Burden Hours: 127,838.

Food and Nutrition Service

Title: 7 CFR Part 245 Determining Eligibility for Free and Reduced Price Meals.

OMB Control Number: 0584-0026.

Summary of Collection: Under the National School Lunch Program (NSLP), each school year food authorities distribute applications for free and reduce price meals benefits to households of enrolled children. Households who want to receive free and reduced price meal benefits for their children complete the information required on the application and return the application to the school food authority. As specified in 7 CFR 245.6a, school food authorities must verify the eligibility information on a sample of the free and reduced price meal applications approved in any given school year. Several data sources including the eligibility verification performed by school districts indicate that a significant and increasing number of ineligible children are being certified for free and reduced price meals benefits. The Food and Nutrition Service (FNS) amended the reporting and recordkeeping requirements relating to the verification of applications for free and reduced price meal benefits. School food authorities will be required to report verification activity and results to their respective State agencies. The State agencies will summarize and report school food authority level data to FNS.

Need and Use of the Information: FNS will collect information using various forms to evaluate the results in the context of State and nationwide data. The data collection will result in improvement of FNS understanding of the operations of the eligibility determination and verification process in the targeting of monitoring and technical assistance efforts and resources on areas of households with the likelihood of problems. Without the information NSLP integrity is compromised, Federal and State education funds are being mistreated, and FNS Audit/Financial Statements are jeopardized.

Description of Respondents: Individuals or household; Not-for-profit institutions; State, Local, or Tribal Government.

Number of Respondents: 4,260,544.

Frequency of Responses: Recordkeeping; Reporting: Biennially; Annually; Other (triennially).

Total Burden Hours: 1,048,769.

Food and Nutrition Service

Title: Report of School Program Operations.

OMB Control Number: 0584-0280.

Summary of Collection: The National School Lunch Act, as amended, authorizes the Summer Food Service Program (SFSP) for Children, which is administered by the Food and Nutrition Service (FNS). The purpose of the SFSP is to provide nutrition meals to children from low-income areas during periods when schools are not in session. Information is gathered from state agencies and other organizations wishing to participate in the program to determine eligibility. If selected, additional reporting requirements apply to determine the amount of meals served and other program volume information. FNS uses a variety of forms to collect information.

Need and Use of the Information: FNS uses the information collected to determine an organization's eligibility, to monitor program performance for compliance and reimbursement purposes.

Description of Respondents: Individuals or household; Not-for-profit institutions; Federal Government; State, Local, or Tribal Government.

Number of Respondents: 76,737.

Frequency of Responses: Recordkeeping; Reporting: On occasion; Quarterly; Monthly.

Total Burden Hours: 328,068.

National Agricultural Statistics Service

Title: Floriculture Survey.

OMB Control Number: 0535-0093.

Summary of Collection: The primary function of the National Agricultural Statistics (NASS) is to prepare current official State and national estimates of crop and livestock production. Since 1985 Congress has provided funds to conduct an annual Commercial Floriculture Survey that provides basic data on this important and growing industry. General authority for these data collection activities is granted under U.S. Code Title 7, Section 2204. This statute specifies that “The Secretary of Agriculture shall procure and preserve all information concerning agriculture which can be obtain by the collection of statistics * * * and shall distribute them among agriculturists”. The floriculture industry accounts for about 7 percent of agricultural cash receipts at the U.S. level. A survey is conducted in 36 states, which ensures 97 percent coverage of the U.S. value of production.

Need and Use of the Information: NASS will collect information to assess alternative agriculture opportunities. Data from the survey will provide statistics for Federal and State agencies to monitor the use of agricultural chemicals. If the information is not collected, data users could not keep abreast of changes.

Description of Respondents: Farms; Business or other for-profit.

Number of Respondents: 13,700.

Frequency of Responses: Reporting: Annually.

Total Burden Hours: 6,587.

Rural Utilities Service

Title: Request for Approval to Sell Capital Assets.

OMB Control Number: 0572-0020.

Summary of Collection: The Rural Utilities Service (RUS) is a credit agency of the U.S. Department of Agriculture (USDA). It makes mortgage loans and loan guarantees to finance electric, telecommunications, and water and waste facilities in rural areas. In addition to providing loans and loan guarantees, one of RUS' main objectives is to safeguard loan security until the loan is repaid. RUS manages loan programs in accordance with the Rural Electrification Act of 1936, 7 U.S.C. 901 et. seq., as amended, (RE ACT) and as prescribed by Office of Management and Budget (OMB) Circular A-129, Policies for Federal Credit Programs and Non-Tax Receivables, which states that agencies must, based on a review of a loan application, determine that an applicant complies with statutory, regulatory, and administrative eligibility requirements for loan assistance.

Need and Use of the Information: RUS borrower will use form 369, Request for Approval to sell capital assets, to seek agency permission to sell some of its assets. The form is used to collect detailed information regarding the proposed sale of a portion of the borrower's systems. RUS will collect information to determine whether or not the agency should approve a sale and to keep track of what property exists to secure the loan. If the information in Form 369 is not collected when capital assets are sold, the capital assets securing the Government's loans could be liquidated and the Government's security either eliminated entirely or diluted to an undesirable level.

Description of Respondents: Not-for-profit institutions; Business or other for-profit.

Number of Respondents: 5.

Frequency of Responses: Recordkeeping; Reporting: On occasion.

Total Burden Hours: 15.

Rural Utilities Service

Title: Lien Accommodations and Subordinations 7 CFR Part 1717, Subpart R and S.

OMB Control Number: 0572-0100.

Summary of Collection: The Rural Electrification Act (RE Act) of 1936, 7 U.S.C. 901 et. seq., as amended, authorizes and empowers the Administrator of the Rural Utilities Service (RUS) to make loans in the several States and territories of the United States for rural electrification and the furnishing electric energy to persons in rural areas who are not receiving central station service. The RE Act also authorizes and empowers the Administrator of RUS to provide financial assistance to borrowers for purposes provided in the RE Act by accommodating or subordinating loans made by the National Rural Utilities Cooperative Finance Corporation, the Federal Financing Bank, and other lending agencies.

Need and Use of the Information: RUS will used the information to determine an applicant's eligibility for a lien accommodation or lien subordination under the RE Act; monitor the compliance of borrowers with debt covenants and regulatory requirements in order to protect loan security; and subsequently to granting the lien accommodation of lien subordination, administer each so as to minimize its cost to the Government. If the information were not collected, RUS would not be able to accomplish their statutory goals.

Description of Respondents: Not-for-profit institutions; Business or other for-profit.

Number of Respondents: 6.

Frequency of Responses: Reporting: On occasion.

Total Burden Hours: 19.

Rural Utilities Service

Title: 7 CFR 1717 Subpart D, Mergers and Consolidations of Electric Borrowers.

OMB Control Number: 0572-0114.

Summary of Collection: The Rural Utilities Service (RUS) is a credit agency of the U.S. Department of Agriculture. It makes mortgage loans and loan guarantees to finance electric, telecommunications, water and waste and water facilities in rural areas. Loan programs are managed in accordance with the Rural Electrification Act (RE Act) of 1936, 7 U.S.C. 901 et seq., as amended and as prescribed by the Office of Management and Budget (OMB) Circular A-129, Policies for Federal Credit Programs and Non-tax Receivable, states that agencies must base on a review of a loan application determine that an applicant complies with statutory, regulatory, and administrative eligibility requirements for loan assistance.

Need and Use of the Information: RUS will collect information to streamline procedures and allow borrowers the flexibility to meet new business challenges and opportunities. The information is necessary for RUS to conduct business with successor entity while protecting the security of Government loans and avoiding defaults and to grant merger approval when required.

Description of Respondents: Business or other for-profit.

Number of Respondents: 18.

Frequency of Responses: Reporting: On occasion.

Total Burden Hours: 184.

Rural Housing Service

Title: 7 CFR 1944-N, “Housing Preservation Grant Program”.

OMB Control Number: 0575-0115.

Summary of Collection: The Rural Housing Service (RHS) is authorized to make grants to eligible applicants to provide repair and rehabilitation assistance so that very low and low-income rural residents can obtain adequate housing. Such assistance is made by grantees to very low and low-income persons, and to co-ops. Grant funds are used by grantees to make loans, grants, or other comparable assistance to eligible homeowners, rental unit owners, and co-ops for repair and rehabilitation of dwellings to bring them up to code or minimum property standards. These grants were established by Public Law 98-181, the Housing Urban Rural Recovery Act of 1983, which amended the Housing Act of 1949 (Pub. L. 93-383).

Need and Use of the Information: RHS will collect information to determine eligibility for a grant to justify its selection of the applicant for funding; to report program accomplishments and to justify and support expenditure of grant funds. RHS uses the information to determine if the grantee is complying with its grant agreement and to make decisions regarding continuing with modifying, or terminating grant assistance. If the information is not collected and presented to RHS, the Agency could not monitor the program or justify disbursement of grant funds.

Description of Respondents: Not-for-profit institutions; Business or other for-profit; Individuals or households; State, Local or Tribal Government

Number of Respondents: 2,050.

Frequency of Responses: Recordkeeping; Reporting: On occasion; Quarterly.

Total Burden Hours: 10,814.

Agricultural Marketing Service

Title: Customer Service Survey for USDA—Donated Food Products.

OMB Control Number: 0581-0193.

Summary of Collection: The Agricultural Marketing Act of 1946 authorizes the Secretary of Agriculture to provide consumers with voluntary Federal meat grading and certification services that facilitate the marketing of meat and meat products. These services are provided under the authority of 7 CFR part 54—Meats, Prepared Meats, and Meat Products (Grading, Certification, and Standards). An annual customer service survey is used to gather information from its customers to determine the quality of service provided. Once an applicant request services, there is no way to determine the quality of service that is provided.

Need and Use of the Information: Agricultural Marketing Service will collect information to evaluate services and assist in planning and managing the program. The information from the survey is strictly voluntary and will be used to continually improve the services.

Description of Respondents: Business or other-for-profit.

Number of Respondents: 450.

Frequency of Responses: Reporting: Annually.

Total Burden Hours: 32.

Food and Nutrition Service

Title: Food Stamp Program—Store Applications.

OMB Control Number: 0584-0008.

Summary of Collection: Section 9(a) of the Food Stamp Act of 1977 as amended, (7 U.S.C. 2011 et seq.) requires retail food stores to submit applications to the Food and Nutrition Service (FNS) for approval prior to participating in the Food Stamp Program. FNS field offices review retailer applications to ensure that the store is eligible and then authorize or deny a store to accept and redeem Food Stamp Program benefits. The need to collect information is established under the Act to determine the eligibility of retail food stores, wholesale food concerns, and food service organizations applying for authorization to accept and redeem food stamp benefits, to monitor these firms for continued eligibility, to sanction stores for non-compliance with the Act, and for program management. FNS will collect information using forms FNS-252, Food Stamp Program Application for Store, and FNS 252-2, Meal Service Application.

Need and Use of the Information: FNS will collect information to determine a firm's eligibility for participation in the Food Stamp Program, program administration, compliance monitoring, investigations, and for sanctioning stores found to be violating the program. FNS is also responsible for requiring updates to application information and reviewing that information to determine whether or not the retail food store, wholesale food concern, or food service organization continues to meet eligibility requirements. Owners Employer Identification Numbers (EIN) and Social Security Numbers (SSN) may be disclosed to and used by Federal agencies or instrumentalities that otherwise gave access to EINs and SSNs. FNS and other Federal Government agencies examine such information during compliance reviews, audit review, special studies or evaluation efforts.

Description of Respondents: Business or other for-profit; Not-for-profit institutions; Farms; Federal Government.

Number of Respondents: 34,888.

Frequency of Responses: Third party disclosure; Reporting: On occasion.

Total Burden Hours: 7,309.

Sondra Blakey,
Departmental Information Collection Clearance Officer.

[FR Doc. 03-12067 Filed 5-15-03; 8:45 am]

BILLING CODE 3410-01-P